DEPARTMENT OF ENERGY

Federal Energy Regulatory Commission

Combined Notice of Filings #2

Take notice that the Commission received the following electric corporate filings:

Docket Numbers: EC15-126-000.

Applicants: Imperial Valley Solar Company (IVSC) 2, LLC.

Description: Application of Imperial Valley Solar Company (IVSC) 2, LLC for Authorization Under Section 203 of the Federal Power Act and Requests for Waivers, Confidential Treatment, Shortened Comment Period.

Filed Date: 4/20/15.

Accession Number: 20150420-5183.

Comments Due: 5 p.m. ET 5/11/15.

Take notice that the Commission received the following electric rate filings:

Docket Numbers: ER15-1013-001.

Applicants: WSPP Inc.

Description: Compliance filing per 35: Compliance filing to be effective 4/11/2015.

Filed Date: 4/20/15.

Accession Number: 20150420-5114.

Comments Due: 5 p.m. ET 5/11/15.

Docket Numbers: ER15-1534-000.

Applicants: Midcontinent Independent System Operator, Inc.

Description: Section 205(d) rate filing per 35.13(a)(2)(iii): 2015-04-20_SA 2772 ATC-Madison Gas and Electric Co. CFA to be effective 6/20/2015.

Filed Date: 4/20/15.

Accession Number: 20150420-5119.

Comments Due: 5 p.m. ET 5/11/15.

Docket Numbers: ER15-1535-000.

Applicants: Midcontinent Independent System Operator, Inc.

Description: Section 205(d) rate filing per 35.13(a)(2)(iii): 2015-04-20_SA 6507_White Pine 1 SSR Renewal Agreement to be effective 4/16/2015.

Filed Date: 4/20/15.

Accession Number: 20150420-5139.

Comments Due: 5 p.m. ET 5/11/15.

Docket Numbers: ER15-1536-000.

Applicants: Midcontinent Independent System Operator, Inc.

Description: Section 205(d) rate filing per 35.13(a)(2)(iii): 2015-04-20_Schedule 43H_Renewal White Pine 1 SSR to be effective 4/16/2015.

Filed Date: 4/20/15.

Accession Number: 20150420-5181.

Comments Due: 5 p.m. ET 5/11/15.

Docket Numbers: ER15-1537-000.

Applicants: Constellation Energy Services, Inc.

Description: Baseline eTariff Filing per 35.1: Notice of Sucession to be effective 4/1/2015.

Filed Date: 4/20/15.

Accession Number: 20150420-5213.

Comments Due: 5 p.m. ET 5/11/15.

Docket Numbers: ER15-1538-000.

Applicants: Safe Harbor Water Power Corporation.

Description: Tariff Withdrawal per 35.15: SHWPC Notice of Cancellation to be effective 4/20/2015.

Filed Date: 4/20/15.

Accession Number: 20150420-5215.

Comments Due: 5 p.m. ET 5/11/15.

Docket Numbers: ER15-1539-000.

Applicants: Constellation Energy Services of New York, Inc.

Description: Baseline eTariff Filing per 35.1: Notice of Succession to be effective 4/1/2015.

Filed Date: 4/20/15.

Accession Number: 20150420-5218.

Comments Due: 5 p.m. ET 5/11/15.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: April 20, 2015.
Nathaniel J. Davis, Sr.,
Deputy Secretary.

[FR Doc. 2015-09552 Filed 4-23-15; 8:45 am]

BILLING CODE 6717-01-P